ELECTION ASSISTANCE COMMISSION

Establishment of Local Leadership Council

AGENCY: U.S. Election Assistance Commission (EAC).

ACTION: Notice of establishment of the Local Leadership Council.

SUMMARY: Pursuant to the Federal Advisory Committee Act, as amended (), the EAC announces the establishment of the Local Leadership Council (“Advisory Committee”). The Advisory Committee will advise the EAC on how best to fulfill the EAC's statutory duties as well as such other matters as the EAC determines. Duration of this advisory board is for two years unless renewed by the EAC.

FOR FURTHER INFORMATION CONTACT: Kristen Muthig, EAC Director of Communications (kmuthig@eac.gov).

SUPPLEMENTARY INFORMATION:

I. Background and Authority

The Local Leadership Council is established under agency authority pursuant to and in accordance with the provisions of the Federal Advisory Committee Act, as amended (5 U.S.C. App. 2). The Advisory Committee is governed by the Federal Advisory Committee Act, which sets forth standards for the formation and use of advisory committees. The Advisory Committee shall advise the EAC on how best to fulfill the EAC's statutory duties set forth in 52 U.S.C. 20922 as well as such other matters as the EAC determines. It shall provide a relevant and comprehensive source of expert, unbiased analysis and recommendations to the EAC on local election administration topics to include but are not limited to voter registration and registration database maintenance, voting system user practices, ballot administration (programming, printing, and logistics), processing, accounting, canvassing, chain of custody, certifying results, and auditing.

II. Structure

The Local Leadership Council shall consist of 100 members. The Election Assistance Commission shall appoint two (2) members from each state after soliciting nominations from each state's election official professional association. Upon appointment, Advisory Committee members must be serving or have previously served in a leadership role in a state election official professional association.

Elections in the United States are ultimately administered by local election officials operating under election laws and procedures that often differ from state to state. By appointing two members from each state, members of the Advisory Committee will be chosen in a way that ensures geographic diversity, objectivity, and balance as well as encompass the full spectrum of election administration expertise throughout the United States. Local election officials are impacted by all of the EAC's statutory duties set forth in 52 U.S.C. 20922. The Advisory Committee's guidance and recommendations will be key to the ongoing success of the EAC's mission and programs.

Members shall be invited to serve for a term of 2 years and may serve consecutive terms. As necessary, subcommittees may be established by the EAC. The Committee will meet a minimum of once a year for the purposes of advising the EAC.

III. Compensation

Local Leadership Council members shall not be compensated for their services but will, upon request, be reimbursed for or provided with travel and per diem expenses in accordance with 5 U.S.C. 5701 et seq., while attending Advisory Committee meetings or subcommittee meetings thereof, while away from their homes or regular places of business.

Authority: 5 U.S.C. Appendix 2.

Amanda Joiner,
Associate Counsel, U.S. Election Assistance Commission.

[FR Doc. 2021-10787 Filed 5-20-21; 8:45 am]

BILLING CODE P